Title 3—

The President

Proclamation 9296 of June 19, 2015

Father's Day, 2015

By the President of the United States of America

A Proclamation

Being a dad is one of the most important jobs a man can have, and few things bring as much joy and pride as the blessing of fatherhood. Raising your children is an incredible privilege, but it is also a tremendous responsibility. It requires hard work, frequent struggle, and a commitment to always be there for your daughters and sons. Today, we celebrate the men who provide us unconditional love and support, and who teach us to lead lives of courage and character.

Fathers are some of our first role models and coaches in life. They inspire us to strive for what is possible—supporting us no matter what path we choose, encouraging us to reach higher, and always believing in us, even when we may not believe in ourselves. Through their example, they demonstrate that with self-discipline and dedication, we can achieve our highest aspirations, and they are there to cheer us on every step of the way.

Fatherhood demands sacrifice, and it is often difficult work—but being a dad does not require perfection. Our children do not expect us to be superheroes, but we do have an obligation to show up and be there for our kids. If we want our sons and daughters to work hard, fight for what is right, and earn their piece of the American dream, we must show them that we can overcome challenges with grit and determination, strive to do better every day, and throughout it all, never give up hope. It is in seemingly small acts and ordinary moments that our children learn big ideas and the most important lessons in life. Through a love shown and earned by being present, we teach our children what matters and pass on a spirit of empathy, compassion, and selflessness.

These are the lessons fathers—whether married or single; gay, straight, or transgender; biological, adoptive, or foster—can teach their kids, and across America responsible, committed dads are proving that their children are always their first priority. But if we want all our Nation's daughters and sons to have a fair shot at success in life—no matter who they are or where they are from—we need more fathers to step up and do the hard work of parenting. My Administration has fought to support men who want to be good fathers and to help create opportunities for parents to meet their obligations. And I have also called on men to make this kind of commitment not just to their own families, but to the many young people who do not have responsible adults in their lives. We need devoted, compassionate men to serve as mentors, tutors, big brothers, and foster parents. To learn more about how you can make a lasting impact on a child's life, visit www.WhiteHouse.gov/MyBrothersKeeper or www.Fatherhood.gov.

On Father's Day, we honor the men who made us who we are. They are examples of success and the ones who constantly push us toward it. And where our own fathers fell short, we have an obligation to rise up and do better than they did with our own children, because if we want our kids to meet the expectations we set for them, we must set high expectations for ourselves. Today, let us reflect on all our fathers have given us and show them the appreciation and gratitude they deserve.

NOW, THEREFORE, I, BARACK OBAMA, President of the United States of America, in accordance with a joint resolution of the Congress approved April 24, 1972, as amended (36 U.S.C. 109), do hereby proclaim June 21, 2015, as Father's Day. I direct the appropriate officials of the Government to display the flag of the United States on all Government buildings on this day, and I call upon all citizens to observe this day with appropriate programs, ceremonies, and activities.

IN WITNESS WHEREOF, I have hereunto set my hand this nineteenth day of June, in the year of our Lord two thousand fifteen, and of the Independence of the United States of America the two hundred and thirty-ninth.

[FR Doc. 2015-15698

Filed 6-23-15; 11:15 am]

Billing code 3295-F5